DEPARTMENT OF COMMERCE

Foreign-Trade Zones Board

[S-5-2014]

Approval of Subzone Status, Apple Inc./GT Advanced Technologies Inc., Mesa, Arizona

On January 14, 2014, the Executive Secretary of the Foreign-Trade Zones (FTZ) Board docketed an application submitted by the City of Mesa, grantee of FTZ 221, requesting subzone status subject to the existing activation limit of FTZ 221, on behalf of Apple Inc./GT Advanced Technologies Inc., in Mesa, Arizona.

The application was processed in accordance with the FTZ Act and Regulations, including notice in the Federal Register inviting public comment (79 FR 3778, 01/23/2014). The FTZ staff examiner reviewed the application and determined that it meets the criteria for approval. Pursuant to the authority delegated to the FTZ Board Executive Secretary (15 CFR 400.36(f)), the application to establish Subzone 221A is approved, subject to the FTZ Act and the Board's regulations, including Section 400.13, and further subject to FTZ 221's pre-existing activation limit.

Dated: March 19, 2014.
Andrew McGilvray,
Executive Secretary.

[FR Doc. 2014-06841 Filed 3-26-14; 8:45 am]

BILLING CODE 3510-DS-P